DEPARTMENT OF COMMERCE

National Oceanic and Atmospheric Administration

RIN 0648-XG991

Gulf of Mexico Fishery Management Council; Public Meeting

AGENCY: National Marine Fisheries Service (NMFS), National Oceanic and Atmospheric Administration (NOAA), Commerce.

ACTION: Notice of a public meeting (webinar).

SUMMARY: The Gulf of Mexico Fishery Management Council (Council) will hold a meeting via webinar of its Reef Fish Advisory Panel (AP).

DATES: The meeting will convene via webinar on Thursday, May 9, 2019; 10 a.m. to 12 p.m., EDT.

ADDRESSES: You may register for the webinar by visiting www.gulfcouncil.org and click on the AP meeting on the calendar.

Council address: Gulf of Mexico Fishery Management Council, 4107 W Spruce Street, Suite 200, Tampa, FL 33607; telephone: (813) 348-1630.

FOR FURTHER INFORMATION CONTACT: Dr. Lisa Hollensead, Fishery Biologist, Gulf of Mexico Fishery Management Council; lisa.hollensead@gulfcouncil.org, telephone: (813) 348-1630.

SUPPLEMENTARY INFORMATION: The following items are on the agenda, though agenda items may be addressed out of order (changes will be noted on the Council's website when possible.)

Thursday, May 9, 2019; 10 a.m.-12 p.m.

The Reef Fish AP will hold introductions of members, adoption of agenda, and approval of minutes from the October 4-5, 2016 meeting. Staff will review the Scope of Work with the members; which is to provide input on a single action draft framework to modify the Gulf Greater Amberjack commercial trip limit. The AP is charged with discussing and providing comments on the framework draft.

—Meeting Adjourns

The agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take action to address the emergency.

Dated: April 19, 2019.
Tracey L. Thompson,
Acting Deputy Director, Office of Sustainable Fisheries, National Marine Fisheries Service.

[FR Doc. 2019-08296 Filed 4-23-19; 8:45 am]

BILLING CODE 3510-22-P